DEPARTMENT OF LABOR

Employment and Training Administration

[NAFTA-05319]

Motorola, Inc., Personal Communications Sector, Wireless Messaging Division, Including Leased Workers of Adecco Employment, Boynton Beach, FL; Amended Certification Regarding Eligibility To Apply for NAFTA-Transitional Adjustment Assistance

In accordance with Section 250(a), Subchapter D, Chapter 2, Title II, of the Trade Act of 1974, as amended (19 U.S.C. 2273), the Department of Labor issued a Certification of Eligibility to Apply for NAFTA Transitional Adjustment Assistance on February 11, 2002, applicable to workers of Motorola, Inc., Personal Communications Sector, Wireless Messaging Division, Boynton Beach, Florida. The notice was published in the Federal Register on February 28, 2002 (67 FR 9328).

At the request of the State agency, the Department reviewed the certification for workers of the subject firm. Information provided by the State shows that leased workers of Adecco Employment, Boca Raton, Florida were employed at Motorola, Inc., Personal Communications Sector, Wireless Messaging Division to produce electronic paging and cellular products at the Boynton Beach, Florida location of the subject firm.

Based on these findings, the Department is amending the certification to include leased workers of Adecco Employment, Boca Raton, Florida employed at Motorola, Inc., Personal Communications Sector, Wireless Messaging Division, Boynton Beach, Florida.

The intent of the Department's certification is to include all workers of Motorola, Inc., Personal Communications Sector, Wireless Messaging affected by employment declines and a shift in the production of electronic paging and cellular products to Mexico.

The amended notice applicable to NAFTA-05319 is hereby issued as follows:

All workers of Motorola, Inc., Personal Communications Sector, Wireless Messaging Division, Boynton Beach, Florida including leased workers of Adecco Employment, Boca Raton, Florida engaged in employment related to the production of electronic paging and cellular products at Motorola, Inc., Personal Communications Sector, Wireless Messaging Division, Boynton Beach, Florida who became totally or partially separated from employment on or after August 17, 2000, through December 7, 2003, are eligible to apply for NAFTA-TAA under Section 250 of the Trade Act of 1974.

Signed in Washington, DC this 9th day of April, 2002.
Linda G. Poole,
Certifying Officer, Division of Trade Adjustment Assistance.

[FR Doc. 02-10052 Filed 4-23-02; 8:45 am]

BILLING CODE 4510-30-M